DEPARTMENT OF THE INTERIOR

Bureau of Land Management

[UTUT106051015 (UTU-004061); A2407-014-004-065516; #O2509-014-004-125222]

Notice of Opening Order

AGENCY: Bureau of Land Management, Interior.

ACTION: Notice.

SUMMARY: This notice announces the land withdrawn by Executive Order (E.O.) No. 5327 dated April 15, 1930, which was subsequently revoked by Public Land Order (PLO) No. 7725, as described below, is opened to location and entry under the United States mining law only as it relates to non-metalliferous minerals on the date and time stated.

DATES: Effective on February 23, 2026.

FOR FURTHER INFORMATION CONTACT: Brendan Willig, BLM, Utah State Office, at (801) 539-4292, email at bwillig@blm.gov, or write to Branch of Lands and Realty, 440 West 200 South, Suite 500, Salt Lake City, Utah 84101. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On April 15, 1930, E.O. No. 5327 established a withdrawal that restricted surface entry on lands believed to contain oil shale deposits, including location and entry under the United States mining laws for non-metalliferous minerals. PLO No. 7725 (74 FR 830, Jan. 8, 2009) subsequently revoked the withdrawal created by E.O. No. 5327 and restored the affected lands to oil shale leasing and the operation of public land laws. However, the lands remained closed to location and entry under the United States mining laws until completion of an analysis to determine if any lands needed special designation and protection. The Bureau of Land Management (BLM) conducted an analysis of the effect of the land being opened to non-metalliferous mining as described below and determined that such opening would be in conformance with the relevant land use plans. Pursuant to Federal Regulations under 43 CFR 2091.6, the following described lands are hereby opened to location and entry under the United States mining laws only for non-metalliferous minerals:

Salt Lake Meridian, Utah

T. 15 S., R. 1 E.,

Sec. 31, lots 1 thru 14, NE¼, E½NW¼, NE¼SW¼ and N½SE¼.

The area described contains 999.41 acres, according to the official plat of survey of said land, on file with the BLM.

At 9 a.m. Mountain Time (MT) on February 23, 2026, the lands and Federal minerals described above will be opened to location and entry under the United States mining laws for non-metalliferous minerals, subject to valid existing rights, the provisions of existing withdrawals, other segregations of record, and of applicable law. All valid applications received at or prior to 9 a.m. MT on February 23, 2026, shall be considered as simultaneously filed at that time. Those received thereafter shall be considered in the order of filing. Appropriation of any of the lands referenced in this notice prior to the date and time of opening will be rejected.

Thomas A. Heinlein,
State Director, Acting.

[FR Doc. 2026-03541 Filed 2-20-26; 8:45 am]

BILLING CODE 4331-25-P